DEPARTMENT OF COMMERCE

International Trade Administration

[A-588-835]

Oil Country Tubular Goods from Japan: Notice of Intent to Rescind Antidumping Duty Administrative Review

AGENCY: Import Administration, International Trade Administration, U.S. Department of Commerce.

SUMMARY: The Department of Commerce (the Department) is conducting an administrative review of the antidumping duty order on oil country tubular goods (OCTG) from Japan in response to a request by United States Steel Corporation, one of the petitioners in the original investigation (Petitioner). Petitioner requested administrative reviews of JFE Steel Corporation (JFE), Nippon Steel Corporation (Nippon), NKK Tubes (NKK) and Sumitomo Metal Industries, Ltd. (SMI). This review covers sales of subject merchandise to the United States during the period of August 1, 2004 through July 31, 2005.

We preliminarily determine that JFE and NKK had no shipments of subject merchandise to the United States during the period of review (POR), and that Nippon and SMI had no reviewable sales of subject merchandise during the POR. Accordingly, we preliminarily determine that the review of these four companies should be rescinded in accordance with 19 CFR 351.213(d)(3). Interested parties are invited to comment on these preliminary results. See the “Intent to Rescind the Administrative Review” section of this notice.

EFFECTIVE DATE: June 22, 2006.

FOR FURTHER INFORMATION CONTACT: Mark Hoadley or Jun Jack Zhao, AD/CVD Operations, Office 6, Import Administration, International Trade Administration, U.S. Department of Commerce, 14th Street and Constitution Avenue, NW., Washington, DC 20230; telephone: (202) 482-3148 or (202) 482-1396, respectively.

SUPPLEMENTARY INFORMATION:

Background

On August 11, 1995, the Department published the antidumping duty order on OCTG from Japan in the Federal Register (60 FR 41058). On August 1, 2005, the Department published a notice of opportunity to request an administrative review of this order (70 FR 44085). On August 31, 2005, the Department received a timely request for review from Petitioner, covering JFE, Nippon, NKK and SMI.¹ On September 28, 2005, we published a notice initiating an administrative review of the antidumping order on OCTG from Japan. See Initiation of Antidumping and Countervailing Duty Administrative Reviews and Requests for Revocation in Part, 70 FR 56631 (September 28, 2005).

¹ The Department found SMI and Sumitomo Corporation (SC) to be affiliated in a previous review. See Oil Country Tubular Goods From Japan; Preliminary Results and Rescission in Part of Antidumping Duty Administrative Review, 64 FR 48589, 48591 (September 7, 1999). Neither SMI nor SC has placed information on the record of this review suggesting that the basis for this finding has changed.

The Department issued the original questionnaire on October 27, 2005. On November 16, 2005, JFE submitted a no shipment sales certification and requested prompt rescission of the review with respect to JFE. On December 5, 2005, Nippon responded that it had no sales of subject merchandise to or in the United States during the period of review. On December 5, 2005, NKK submitted a no shipment certification and requested expeditious rescission of the review with respect to NKK. Also on December 5, 2005, SMI responded that it did not have any U.S. sales or shipments of subject merchandise during the POR. The Department issued several supplemental questionnaires, and received a response by Nippon on March 13, 2006, and responses by SMI on March 14, April 25, May 2, May 24, June 6 and June 9, 2006, providing further explanation and documentation concerning their claims of no shipments during the POR.

On April 26, 2006, the Department extended the deadline for the preliminary results of this antidumping duty administrative review until June 19, 2006. See Oil Country Tubular Goods from Japan: Notice of Extension of Time Limit for Preliminary Results of Antidumping Duty Administrative Review, 71 FR 24640 (April 26, 2006).

Period of Review

This review covers the period August 1, 2004, through July 31, 2005.

Scope of the Order

The merchandise covered by this order consists of oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The products subject to this order are currently classified in the Harmonized Tariff Schedule of the United States (HTSUS) under item numbers: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. Although the HTSUS subheadings are provided for convenience and customs purposes, our written description of the scope of this order is dispositive.

Analysis

Intent to Rescind the Administrative Review

In response to our questionnaire, all four respondents submitted certified statements claiming no U.S. sales or shipments of subject merchandise during the POR. The petitioner did not comment on the claims. In order to corroborate the no-shipment statements, the Department requested information from U.S. Customs and Border Protection (CBP). Such information showed no entries of subject merchandise produced by JFE and NKK during the POR. Nippon and SMI had entries but based on our analysis of the supporting documentation, we find that these two companies had no reviewable sales of subject merchandise. Since much of the information and documentation submitted by Nippon and SMI to demonstrate the circumstances of each of their entries is business proprietary, a complete analysis of the Department's determination that none of Nippon and SMI's entries constitute reviewable sales during the POR is set forth in the memorandum from Jun Jack Zhao to Barbara E. Tillman through Dana Mermelstein, Analysis Memorandum regarding the Administrative Review of the Antidumping Duty Order on Oil Country Tubular Goods from Japan (A-588-835), dated June 19, 2006. Therefore, in accordance with section 351.213(d)(3) of the Department's regulations, we intend to rescind the administrative review of all four respondents.

Duty Assessment

The Department will determine, and CBP shall assess, antidumping duties on all appropriate entries, pursuant to 19 CFR § 351.212(b). If we determine in the final results that this review should be rescinded with respect to JFE, NKK, Nippon and SMI because these companies had no sales of subject merchandise to the United States during the POR, we will direct CBP to liquidate all entries of subject merchandise manufactured by these four companies, and entered or withdrawn from warehouse for consumption during the POR, at the “all others” rate, 44.20 percent, as all such sales were made by intermediary companies (e.g., resellers) not covered in this review, a prior review, or the less than fair value (LTFV) investigation. See Antidumping and Countervailing Duty Proceedings: Assessment of Antidumping Duties, 68 FR 23954 (May 6, 2003).

Cash Deposit Requirements

The following cash deposit rates will be effective with respect to all shipments of OCTG from Japan entered, or withdrawn from warehouse, for consumption on or after the publication date of the final results, as provided for by section 751(a)(1) of the Act: (1) For all four companies, JFE, NKK, Nippon and SMI, the cash deposit rate will remain unchanged and will be the company-specific rate established for the most recent period; (2) for previously reviewed or investigated companies not listed above, the cash deposit rate will be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate shall be the all others rate established in the LTFV investigation, which is 44.20 percent. See Notice of Amended Final Determination of Sales at Less Than Fair Value and Antidumping Duty Order: Oil Country Tubular Goods from Japan, 60 FR 155 (August 11, 1995). These deposit rates, when imposed, shall remain in effect until publication of the final results of the next administrative review.

Public Comment

Pursuant to section 351.309 of the Department's regulations, interested parties may submit written comments in response to this notice of intent to rescind the administrative review. Unless the deadline is extended by the Department, case briefs are to be submitted within 30 days after the date of publication of this notice, and rebuttal briefs, limited to arguments raised in case briefs, are to be submitted no later than five days after the time limit for filing case briefs. Parties who submit arguments in this proceeding are requested to submit with the argument: (1) A statement of the issues, and (2) a brief summary of the argument. Case and rebuttal briefs must be served on interested parties in accordance with section 351.303(f) of the Department's regulations.

Also, pursuant to section 351.310(c) of the Department's regulations, within 30 days of the date of publication of this notice, interested parties may request a public hearing on arguments to be raised in the case and rebuttal briefs. Unless the Department specifies otherwise, the hearing, if requested, will be held two days after the date for submission of rebuttal briefs. Parties will be notified of the time and location.

The Department will publish the final results of this administrative review, including the results of its analysis of issues raised in any case or rebuttal brief, no later than 120 days after publication of these preliminary results, unless extended. See 19 CFR section 351.213(h).

Notification to Importers

This notice serves as a preliminary reminder to importers of their responsibility under section 351.402(f) of the Department's regulations to file a certificate regarding the reimbursement of antidumping duties prior to liquidation of the relevant entries during this review period. Failure to comply with this requirement could result in the Secretary's presumption that reimbursement of antidumping duties occurred and the subsequent assessment of double antidumping duties.

This administrative review and notice are issued and published in accordance with sections 751(a)(1) and 777(i)(1) of the Tariff Act of 1930, as amended.

Dated: June 15, 2006.
David M. Spooner,
Assistant Secretary for Import Administration.

[FR Doc. E6-9880 Filed 6-21-06; 8:45 am]

BILLING CODE 3510-DS-S